DEPARTMENT OF VETERANS AFFAIRS

[OMB Control No. 2900-0712]

Agency Information Collection (Nation-wide Customer Satisfaction Surveys) Activities Under OMB Review

AGENCY: Veterans Health Administration, Department of Veterans Affairs.

ACTION: Notice.

SUMMARY: In compliance with the Paperwork Reduction Act (PRA) of 1995 (44 U.S.C. 3501-3521), this notice announces that the Veterans Health Administration, Department of Veterans Affairs, will submit the collection of information abstracted below to the Office of Management and Budget (OMB) for review and comment. The PRA submission describes the nature of the information collection and its expected cost and burden and includes the actual data collection instrument.

DATES: Comments must be submitted on or before June 7, 2010.

ADDRESSES: Submit written comments on the collection of information through www.Regulations.gov or to VA's OMB Desk Officer, OMB Human Resources and Housing Branch, New Executive Office Building, Room 10235, Washington, DC 20503 (202) 395-7316. Please refer to “OMB Control No. 2900-0712” in any correspondence.

FOR FURTHER INFORMATION CONTACT: Denise McLamb, Enterprise Records Service (005R1B), Department of Veterans Affairs, 810 Vermont Avenue, NW., Washington, DC 20420, (202) 461-7485, fax (202) 273-0443 or e-mail denise.mclamb@va.gov. Please refer to “OMB Control No. 2900-0712.”

SUPPLEMENTARY INFORMATION: Title: Nation-wide Customer Satisfaction Surveys, VA Forms 1465-2 through 1465-4.

OMB Control Number: 2900-0712.

Type of Review: Revision of a currently approved collection.

Abstract: The Survey of Health Experience of Patients (SHEP) Survey is used to obtain information from VA patients that will be used to identify problems or compliant and to improve the quality of health care services delivered to veterans. Data will be use to measure improvement toward the goal of matching or exceeding non-VA external benchmark performance.

An agency may not conduct or sponsor, and a person is not required to respond to a collection of information unless it displays a currently valid OMB control number. The Federal Register Notice with a 60-day comment period soliciting comments on this collection of information was published on March 1, 2010, at page 9277.

Affected Public: Individuals or households.

Estimated Annual Burden:

a. Inpatient Short Form, VA Form 10-1465-2—18,750 hours.

b. Ambulatory Care Long Form, VA Form 10-1465-3—9,802 hours.

c. Ambulatory Care Short Form, VA Form 10-1465-4—67,573 hours.

Estimated Average Burden per Respondent:

a. Inpatient Short Form, VA Form 10-1465-2—15 minutes.

b. Ambulatory Care Long Form, VA Form 10-1465-3—25 minutes.

c. Ambulatory Care Short Form, VA Form 10-1465-4—20 minutes.

Frequency of Response: On occasion.

Estimated Number of Respondents:

a. Inpatient Short Form, VA Form 10-1465-2—75,000.

b. Ambulatory Care Long Form, VA Form 10-1465-3—23,524.

c. Ambulatory Care Short Form, VA Form 10-1465-4—202,720.

Dated: May 4, 2010.
By direction of the Secretary.
Denise McLamb,
Program Analyst, Enterprise Records Service.

[FR Doc. 2010-10797 Filed 5-6-10; 8:45 am]

BILLING CODE 8320-01-P